DEPARTMENT OF COMMERCE

National Oceanic and Atmospheric Administration

[I.D. 092905A]

South Atlantic Fishery Management Council; Law Enforcement Committee and Advisory Panel Meeting

AGENCY: National Marine Fisheries Service (NMFS), National Oceanic and Atmospheric Administration (NOAA), Commerce.

ACTION: Notice of meeting of the Law Enforcement Committee and Advisory Panel.

SUMMARY: The South Atlantic Fishery Management Council (Council) will hold a joint meeting of its Law Enforcement Committee and Advisory Panel (AP) in Charleston, South Carolina.

DATES: The meeting will take place October 12 and 13, 2005.

ADDRESSES: The meetings will be held at the Town and Country Inn, 2008 Savannah Highway, Charleston, SC 29407; phone 800/334-6660 or 843/571-1000, FAX 843/766-9444.

FOR FURTHER INFORMATION CONTACT: Kim Iverson, Public Information Officer, South Atlantic Fishery Management Council, One Southpark Circle, Suite 306, Charleston, S.C., 29407-4699; phone 843/571-4366 or toll free 866/SAFMC-10; FAX 843/769-4520; email: kim.iverson@safmc.net.

SUPPLEMENTARY INFORMATION: The Law Enforcement Committee and AP will meet jointly from 1p.m. until 5 p.m. on October 12, 2005, and from 8:30 a.m. until 3 p.m. on October 13, 2005, to review Amendment 13C to the Snapper Grouper Fishery Management Plan and provide recommendations to the Council. Committee and AP members will also receive an update on the use of marine protected areas as a fishery management tool, discuss state regulations regarding the sale of recreationally caught fish in the region, and provide recommendations for Council.

Special Accommodations

These meetings are physically accessible to people with disabilities. Requests for auxiliary aids should be directed to the council office (see ADDRESSES) prior to the meetings.

Note: The times and sequence specified in this agenda are subject to change.

Dated: September 29, 2005.
Emily Menashes,
Acting Director, Office of Sustainable Fisheries, National Marine Fisheries Service.

[FR Doc. 05-19717 Filed 9-28-05; 2:54 pm]

BILLING CODE 3510-22-S